DEPARTMENT OF COMMERCE

International Trade Administration

[A-588-866]

Antidumping Duty Order: Superalloy Degassed Chromium from Japan

AGENCY: Import Administration, International Trade Administration, Department of Commerce.

SUMMARY: Based on affirmative final determinations by the Department of Commerce and International Trade Commission, the Department of Commerce is issuing an antidumping duty order on superalloy degassed chromium from Japan.

EFFECTIVE DATE: December 22, 2005.

FOR FURTHER INFORMATION CONTACT: Janis Kalnins or Minoo Hatten, AD/CVD Operations, Office 5, Import Administration, U.S. Department of Commerce, 14th Street and Constitution Avenue, NW, Washington, DC 20230; telephone: (202) 482-1392, or (202) 482-1690, respectively.

SUPPLEMENTARY INFORMATION:

Background

On November 1, 2005, we published the final determination of sales at less than fair value of superalloy degassed chromium from Japan. See Notice of Final Determination of Sales at Less Than Fair Value: Superalloy Degassed Chromium from Japan, 70 FR 65886 (November 1, 2005). On December 16, 2005, the International Trade Commission (ITC) notified the Department of Commerce (the Department) of its final determination pursuant to section 735(d) of the Tariff Act of 1930, as amended (the Act), that an industry in the United States is materially injured within the meaning of section 735(b)(1)(A)(i) of the Act by reason of less-than-fair-value imports of superalloy degassed chromium from Japan. See letter from the ITC to the Secretary of Commerce, Notification of Final Affirmative Determination of Superalloy Degassed Chromium from Japan (Investigation No. 731-TA-1090 (Final)), dated December 16, 2005. Pursuant to section 736(a) of the Act, the Department is publishing an antidumping duty order on the subject merchandise.

Scope of Order

The product covered by this order is all forms, sizes, and grades of superalloy degassed chromium from Japan. Superalloy degassed chromium is a high-purity form of chrome metal that generally contains at least 99.5 percent, but less than 99.95 percent, chromium. Superalloy degassed chromium contains very low levels of certain gaseous elements and other impurities (typically no more than 0.005 percent nitrogen, 0.005 percent sulphur, 0.05 percent oxygen, 0.01 percent aluminum, 0.05 percent silicon, and 0.35 percent iron). Superalloy degassed chromium is generally sold in briquetted form, as “pellets” or “compacts,” which typically are 1½ inches x 1 inch x 1 inch or smaller in size and have a smooth surface. Superalloy degassed chromium is currently classifiable under subheading 8112.21.00 of the Harmonized Tariff Schedule of the United States (HTSUS). This order covers all chromium meeting the above specifications for superalloy degassed chromium regardless of tariff classification.

Certain higher-purity and lower-purity chromium products are excluded from the scope of this order. Specifically, the order does not cover electronics-grade chromium, which contains a higher percentage of chromium (typically not less than 99.95 percent), a much lower level of iron (less than 0.05 percent), and lower levels of other impurities than superalloy degassed chromium. The order also does not cover “vacuum melt grade” (VMG) chromium, which normally contains at least 99.4 percent chromium and contains a higher level of one or more impurities (nitrogen, sulphur, oxygen, aluminum and/or silicon) than specified above for superalloy degassed chromium.

Although the HTSUS subheading is provided for convenience and customs purposes, the written description of the scope of this order is dispositive.

Antidumping Duty Order

In accordance with section 736(a)(1) of the Act, the Department will direct U.S. Customs and Border Protection (CBP) to assess, upon further instruction by the Department, antidumping duties equal to the amount by which the normal value of the merchandise exceeds the export price (or the constructed export price) of the merchandise for all relevant entries of superalloy degassed chromium from Japan. These antidumping duties will be assessed on (1) all entries of superalloy degassed chromium from Japan entered, or withdrawn from the warehouse, for consumption on or after August 18, 2005, the date on which the Department published its Notice of Preliminary Determination of Sales at Less Than Fair Value: Superalloy Degassed Chromium from Japan, 70 FR 48538 (August 18, 2005), and before December 16, 2005, the date on which the Department is required, pursuant to section 733(d) of the Act, to terminate the suspension of liquidation, and (2) on all subject merchandise entered, or withdrawn from warehouse, for consumption on or after the date of publication of the ITC's notice of final determination in the Federal Register. Entries of superalloy degassed chromium from Japan made between December 16, 2005, and the day preceding the date of publication of the ITC's notice of final determination in the Federal Register are not liable for the assessment of antidumping duties.

On and after the date of publication of the ITC's notice of final determination in the Federal Register, CBP will require, at the same time as importers would normally deposit estimated duties on this merchandise, cash deposits for the subject merchandise equal to the estimated weighted-average antidumping margins listed below. The all-others rate applies to all entries of the subject merchandise except for entries from the company that is identified below.

Manufacturer or exporter | Weighted-average margin (percent)
JFE Material Co., Ltd. | 129.32
All Others | 129.32

This notice constitutes the antidumping duty order with respect to superalloy degassed chromium from Japan, pursuant to section 736(a) of the Act. Interested parties may contact the Department's Central Records Unit, Room B-099 of the main Commerce building, for copies of an updated list of antidumping duty orders currently in effect.

This order is issued and published in accordance with section 736(a) of the Act and 19 CFR 351.211(b).

Dated: December 16, 2005.
Stephen J. Claeys,
Acting Assistant Secretary for Import Administration.

[FR Doc. E5-7700 Filed 12-21-05; 8:45 am]

BILLING CODE 3510-DS-S